DEPARTMENT OF JUSTICE

Office of Justice Programs

Agency Information Collection Activities: Proposed Collection; Comment Request

ACTION: Notice of Information Collection for Review: Extension of a Currently Approved Collection; Correction; Grants Management System Online Application.

The Department of Justice, Office of Justice Programs, has submitted the following information collection request for review and clearance in accordance with the Paperwork Reduction Act of 1995. Office of Management and Budget approval is being sought for the information collection listed below. This proposed information collection was previously published in the Federal Register on April 25, 2000 (Volume 65, page 24224), allowing for a 60-day public comment period.

The purpose of this notice is to correct the public comment date from March 30, 2000 to November 6, 2000. The second paragraph of the Federal Register notice published on October 5, 2000, should read as follows. The purpose of this notice is to allow an additional 30 days for public comment until November 6, 2000. This process is conducted in accordance with 5 CFR 1320.10.

Written comments and/or suggestions regarding the item(s) contained in this notice, especially regarding the estimated public burden and associated response time, should be directed to the Office of Management and Budget, Office of Information and Regulatory Affairs, Attention: Department of Justice Desk Officer, Washington, DC 20530. Additionally, comments may be submitted to OMB via facsimile to (202) 395-7285. Comments may also be submitted to the Department of Justice (DOJ), Justice Management Division, Information Management and Security Staff, Attention: Department Deputy Clearance Officer, Suite 1220, 1331 Pennsylvania Avenue, NW., Washington, DC 20530.

Written comments and/or suggestions from the public and affected agencies concerning the proposed collection of information should address one or more of the following four points.

(1) Evaluate whether the proposed collection of information is necessary for the proper performance of the function of the agency, including whether the information will have practical utility;

(2) Evaluate the accuracy of the agency's estimate of the burden of the proposed collection of information, including the validity of the methodology and assumption used;

(3) Enhance the quality, utility, and clarity of the information to be collected; and

(4) Minimize the burden of the collection of information on those who are to respond, including through the use appropriate automated, electronic, mechanical, or other technological collection techniques or other forms of information technology, e.g., permitting electronic submission of responses.

Overview of This Information

(1) Type of Information Collection: Extension of a currently approved collection.

(2) Title of the Form/Collection: Grants Management System Online Application.

(3) Agency form number, if any, and the application component of the Department sponsoring the collection: None. Office of Justice Programs, United States Department of Justice.

(4) Affected public who will be as or required to respond, as well as a brief abstract: Primary: State Government. Other: None. The Grants Management System Online Application will be used by respondents from State and Local Government offices to request grants from Offices and Bureaus within the Office of Justice Programs. This information, once collected from grantees, will be used to approve applications for funding, that grantees have requested, for grantee use within State and Local Government offices.

(5) An estimate of the total number of respondents and the amount of time estimated for an average respondent to respond/reply: The time burden of the 3,000 respondents to complete the surveys is 4 hours per application.

(6) An estimate of the total public burden (in hours) associated with the collection: The total annual hour burden to complete applications for the Grants Management System Online Application is 12,000 annual burden hours.

If additional information is required contact: Mrs. Brenda E. Dyer, Deputy Clearance Officer, United States Department of Justice, Information Management and Security Staff, Justice Management Division, Suite 1220, National Place, 1331 Pennsylvania Avenue, NW., Washington, DC 20530.

Dated: October 18, 2000.
Brenda E. Dyer,
Department Deputy Clearance Officer, United States Department of Justice.

[FR Doc. 00-27203 Filed 10-19-00; 8:45 am]

BILLING CODE 4410-18-M